ENVIRONMENTAL PROTECTION AGENCY

40 CFR Parts 51 and 85

[FRL-6892-1]

RIN 2060-AJ03

Amendments to Vehicle Inspection Maintenance Program Requirements Incorporating the Onboard Diagnostic Check; Reopening of Comment Period

AGENCY: Environmental Protection Agency.

ACTION: Reopening of comment period.

SUMMARY: This document reopens the public comment period for above-named notice of proposed rulemaking, published Wednesday, September 20, 2000, at 65 FR 56844-56856. The deadline for public comments is being reopened from the original deadline for public comments of October 20, 2000, to November 13, 2000. This reopening is in response to a request received prior to the close of the original comment period.

DATES: Written comments must be received no later than November 13, 2000.

ADDRESSES: Interested parties may submit written comments (in duplicate if possible) to Public Docket No. A-2000-16. It is requested that a duplicate copy be submitted to David Sosnowski at the address in the FOR FURTHER INFORMATION CONTACT section below. The docket is located at the Air Docket, Room M-1500 (6102), Waterside Mall S.W., Washington, DC 20460. The docket may be inspected between 8:30 a.m. and 12 noon and between 1:30 p.m. until 3:30 p.m. on weekdays. A reasonable fee may be charged for copying docket material.

FOR FURTHER INFORMATION CONTACT: David Sosnowski, Office of Mobile Sources, Regional and State Programs Division, 2000 Traverwood, Ann Arbor, Michigan, 48105. Telephone (734) 214-4823.

List of Subjects

40 CFR Part 51

Environmental protection, Administrative practice and procedure, Air pollution control, Carbon monoxide, Intergovernmental relations, Lead, Nitrogen dioxide, Ozone, Particulate matter, Reporting and recordkeeping requirements, Sulfur oxides, Volatile organic compounds.

40 CFR Part 85

Environmental protection, Confidential business information, Imports, Labeling, Motor vehicle pollution, Reporting and recordkeeping requirements, Research, Warranties.

Dated: October 19, 2000.
Robert D. Brenner,
Acting Assistant Administrator for Air and Radiation.

[FR Doc. 00-27404 Filed 10-27-00; 8:45 am]

BILLING CODE 6560-50-P